INTERNATIONAL TRADE COMMISSION

[Investigation No. 337-TA-647]

In the Matter of Certain Hand-Held Meat Tenderizers; Notice of Decision Not To Review an Initial Determination Correcting the Name of a Respondent

AGENCY: U.S. International Trade Commission.

ACTION: Notice.

SUMMARY: Notice is hereby given that the U.S. International Trade Commission has determined not to review an initial determination (“ID”) (Order No. 4) issued by the presiding administrative law judge (“ALJ”) correcting the name of a respondent in this investigation.

FOR FURTHER INFORMATION CONTACT: Mark B. Rees, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On May 8, 2008, the Commission instituted this investigation based on the complaint, as supplemented, of Jaccard Corporation of Orchard Park, New York, alleging violations of section 337 of the Tariff Act of 1930 in the importation into the United States, the sale for importation, and the sale within the United States after importation of certain hand-held meat tenderizers by reason of infringement of U.S. Trademark Registration No. 1,172,879 (the JACCARD® word mark) and also by reason of infringement of trade dress. 73 FR 27846 (May 14, 2008). The notice of investigation, tracking the complaint, named Keystone Manufacturing, Inc. of Buffalo, New York and Chefmaster/Mr. Bar-B-Q Inc. of Old Bethpage, New York as respondents.

On May 22, 2008, the ALJ sua sponte issued the subject ID (Order No. 4) amending the notice of investigation so that “Chefmaster/Mr. Bar-B-Q Inc.” instead reads “Mr. Bar-B-Q-, Inc.”, which he found is this respondent's correct name. No petitions for review of this ID were filed. The Commission has determined not to review this ID.

The authority for the Commission's determination is contained in section 337 of the Tariff Act of 1930, as amended (19 U.S.C. 1337), and section 210.42 of the Commission's Rules of Practice and Procedure (19 CFR 210.42).

By order of the Commission.
Issued: July 11, 2008.
Marilyn R. Abbott,
Secretary to the Commission.

[FR Doc. E8-16281 Filed 7-15-08; 8:45 am]

BILLING CODE 7020-02-P